DEPARTMENT OF AGRICULTURE

Animal and Plant Health Inspection Service

9 CFR Part 77

[Docket No. 03-044-2]

Tuberculosis in Cattle and Bison; State Designations; New Mexico

AGENCY: Animal and Plant Health Inspection Service, USDA.

ACTION: Affirmation of interim rule as final rule.

SUMMARY: We are adopting as a final rule, without change, an interim rule that amended the regulations regarding State and zone classifications by removing New Mexico from the list of accredited-free States and adding it to the list of modified accredited advanced States. The interim rule was necessary to help prevent the spread of tuberculosis because New Mexico no longer meets the requirements for accredited-free State status.

EFFECTIVE DATE: The interim rule became effective on July 24, 2003.

FOR FURTHER INFORMATION CONTACT: Dr. Terry Beals, Senior Staff Veterinarian, Eradication and Surveillance Team, National Center for Animal Health Programs, VS, APHIS, 4700 River Road Unit 43, Riverdale, MD 20737-1231; (301) 734-5467.

SUPPLEMENTARY INFORMATION:

Background

In an interim rule effective and published in the Federal Register on July 24, 2003 (68 FR 43618-43621, Docket No. 03-044-1), we amended the tuberculosis regulations in 9 CFR part 77 by removing New Mexico from the list of accredited-free States in § 77.7 and adding it to the list of modified accredited advanced States in § 77.9.

Comments on the interim rule were required to be received on or before September 22, 2003. We received one comment by that date, from a supplier of roping animals.

The commenter suggested that, given the size of the State of New Mexico and the variety of the cattle industries contained therein, a more beneficial course of action would be to split the State and designate each portion separately.

While the regulations do provide for the establishment of zones of classification within a State, such split State status must be requested by a State animal health official in accordance with § 77.4 and approved by the Administrator in accordance with § 77.3. We have not thus far received such a request from the State of New Mexico.

Therefore, for the reasons given in the interim rule and in this document, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 9 CFR Part 77

Animal diseases, Bison, Cattle, Reporting and recordkeeping requirements, Transportation, Tuberculosis.

PART 77—TUBERCULOSIS

Accordingly, we are adopting as a final rule, without change, the interim rule that amended 9 CFR part 77 and that was published at 68 FR 43618-43621 on July 24, 2003.

Authority: 7 U.S.C. 8301-8317; 7 CFR 2.22, 2.80, and 371.4.

Done in Washington, DC, this 18th day of November, 2003.
Kevin Shea,
Acting Administrator, Animal and Plant Health Inspection Service.

[FR Doc. 03-29233 Filed 11-21-03; 8:45 am]

BILLING CODE 3410-34-P